ENVIRONMENTAL PROTECTION AGENCY

40 CFR Part 180

[EPA-HQ-OPP-2007-0097; FRL-8407-2]

Captan, 2,4-D, Dodine, DCPA, Endothall, Fomesafen, Propyzamide, Ethofumesate, Permethrin, Dimethipin, and Fenarimol; Technical Amendment

AGENCY: Environmental Protection Agency (EPA).

ACTION: Final rule; technical amendment.

SUMMARY: EPA issued a final rule in the Federal Register of September 12, 2007, revoking, revising, and establishing certain tolerances. This document is being issued to correct a terminology omission associated with DCPA and onions.

DATES: This final rule is effective April 1, 2009.

ADDRESSES: EPA has established a docket for this action under docket identification (ID) number EPA-HQ-OPP-2007-0097. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Jane Smith, Special Review and Reregistration Division (7508P), Office of Pesticide Programs, Environmental Protection Agency, 1200 Pennsylvania Ave., NW., Washington, DC 20460-0001; telephone number: (703) 308-0048; e-mail address: smith.jane-scott@epa.gov.

SUPPLEMENTARY INFORMATION:

I. General Information

A. Does this Action Apply to Me?

The Agency included in the final rule a list of those who may be potentially affected by this action. If you have questions regarding the applicability of this action to a particular entity, consult the person listed under FOR FURTHER INFORMATION CONTACT.

B. How Can I Access Electronic Copies of this Document and Other Related Information?

In addition to accessing electronically available documents at http://www.regulations.gov, you may access this Federal Register document electronically through the EPA Internet under the “Federal Register” listings at http://www.epa.gov/fedrgstr.

II. What Does this Technical Amendment Do?

EPA issued a notice of proposed rulemaking in the Federal Register of June 6, 2007 (72 FR 31221) (FRL-8122-7), that proposed to revoke, revise, and establish certain tolerances for captan, 2,4-D, dodine, DCPA, endothall, fomesafen, propyzamide, ethofumesate, permethrin, dimethipin, and fenarimol. On page 31228, third column, first full paragraph, the Agency stated the following:

. . . EPA is proposing to revise commodity terminology and tolerances to conform to current Agency practice in 40 CFR 180.185(a) for the combined residues of the herbicide DCPA and its metabolites MTP and TCP (calculated as DCPA) in or on melon, honey dew to muskmelon; and onion to onion, bulb . . . .

The June 6, 2007 Federal Register publication was intended only to update commodity terminology, and not to revoke or revise the scope of existing tolerances. The existing tolerance for “onion” covered both “onion, bulb” and “onion, green” as defined under current commodity terminology. The reference to “onion, green” was inadvertently omitted from both the June 6, 2007 proposed rule and the final rule published on September 12, 2007 (72 FR 52013) (FRL-8142-2). Use on both “onion, bulb” and “onion, green” continues to be permitted according to labels of currently registered DCPA products, and the required safety findings for the residues permitted under the tolerance were made taking into account both types of onions. Therefore, 40 CFR 180.185(a) is amended by establishing a tolerance for DCPA in/on onion, green at 1.0 ppm to effectuate EPA's original intention in the proposed and final rules changing terminology only.

III. Why is this Technical Amendment Issued as a Final Rule?

Section 553 of the Administrative Procedure Act (APA), 5 U.S.C. 553(b)(B), provides that, when an Agency for good cause finds that notice and public procedure are impracticable, unnecessary or contrary to the public interest, the Agency may issue a final rule without providing notice and an opportunity for public comment. EPA has determined that there is good cause for making today's technical amendment final without prior proposal and opportunity for comment, because this action merely corrects a drafting error in the rulemaking that was contrary to the intention of the changes as discussed in the proposed rule. Notice and comment are unnecessary to correct an erroneous deletion of a tolerance that was neither intended nor discussed in rulemaking. EPA finds that this constitutes good cause under 5 U.S.C. 553(b)(B).

IV. Do Any of the Statutory and Executive Order Reviews Apply to this Action?

The discussion in Unit IV. of the September 12, 2007 final rule also applies to this action.

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: March 18, 2009.
Debra Edwards,
Director, Office of Pesticide Programs.

Therefore, 40 CFR Chapter I is amended as follows:

PART 180—[AMENDED]

1. The authority citation for part 180 continues to read as follows:

Authority: 21 U.S.C. 321(q), 346(a) and 371.

2. Section 180.185, is amended by alphabetically adding the following commodity to the table in paragraph (a) to read as follows:

§ 180.185 DCPA; tolerances for residues.

(a) General. * * *

Commodity | Parts per million
* * * * *
Onion, green | 1.0
* * * * *

* * * * *

4

[FR Doc. E9-7040 Filed 3-31-09; 8:45 am]

BILLING CODE 6560-50-S